DEPARTMENT OF TRANSPORTATION

Federal Aviation Administration

Proposed Advisory Circular Number AC 23-26, Advisory Circular on Synthetic Vision and Pathway Depictions on the Primary Flight Display

AGENCY: Federal Aviation Administration, DOT.

ACTION: Notice of availability; request for comments.

SUMMARY: This notice announces the availability of and requests comments on a proposed advisory circular that sets forth an acceptable means, but not the only means of showing compliance with Title 14 Code of Federal Regulations (14 CFR), part 23, for two new concepts in small airplanes. The two concepts are: (1) Synthetic Vision (SV), and (2) pathway depictions displaying the navigation course on the primary flight display. This AC covers airplanes in the normal, utility, acrobatic, and commuter categories approved to fly under Instrument Flight Rules (IFR). This notice is necessary to give all interested persons an opportunity to present their views on the proposed AC.

DATES: Send your comments by June 15, 2005.

ADDRESSES: Copies of the proposed advisory circular, AC 23-26, may be requested from the following: Small Airplane Directorate, Standards Office (ACE-110), Aircraft Certification Service, Federal Aviation Administration, 901 Locust Street, Room 301, Kansas City, MO 64106. The proposed advisory circular is also available on the Internet at the following address: http://www.airweb.faa.gov/AC. Send all comments on this proposed advisory circular to the individual identified under FOR FURTHER INFORMATION CONTACT. Comments may be inspected at the above address between 7:30 a.m. and 4:00 p.m. weekdays, except Federal holidays.

FOR FURTHER INFORMATION CONTACT: Lowell B. Foster, Federal Aviation Administration, Small Airplane Directorate, Regulations & Policy, ACE-111, 901 Locust Street, Room 301, Kansas City, Missouri 64106; telephone: (816) 329-4125; fax: 816-329-4090; e-mail: lowell.foster@faa.gov.

SUPPLEMENTARY INFORMATION:

Comments Invited

We invite your comments on this proposed advisory circular. Send any data or views as you may desire. Identify the proposed Advisory Circular Number AC 23-26 on your comments, and if you submit your comments in writing, send two copies of your comments to the above address. The Small Airplane Directorate will consider all communications received on or before the closing date for comments. We may change the proposal contained in this notice because of the comments received.

Comments sent by fax or the Internet must contain “Comments to proposed advisory circular AC 23-26” in the subject line. You do not need to send two copies if you fax your comments or send them through the Internet. If you send comments over the Internet as an attached electronic file, format it in either Microsoft Word 97 for Windows or ASCII text.

State what specific change you are seeking to the proposed advisory circular and include justification (for example, reasons or data) for each request.

Issued in Kansas City, Missouri on April 29, 2005.
John Colomy,
Acting Manager, Small Airplane Directorate, Aircraft Certification Service.

[FR Doc. 05-9627 Filed 5-13-05; 8:45 am]

BILLING CODE 4910-13-P